DEPARTMENT OF ENERGY

Senior Executive Service; Performance Review Board; Amendment

AGENCY: U.S. Department of Energy.

ACTION: Designation of Performance Review Board Standing Register.

SUMMARY: The Department of Energy (DOE) published a notice in the Federal Register on October 8, 2014, (79 FR 60845) listing the names of the Performance Review Board Standing Register. This document amends that notice by removing the name of Sarah Gamage and adding in its place, the name of Sharlene Weatherwax. DOE also published a correction notice on October 27, 2014 (79 FR 63915). Also added are the new names listed below as alternates for the Performance Review Board Standing Register.

DATES: This appointment is effective as of September 30, 2014.

Campagnone, Mari-Jo

Grose, Amy

Horton, Linda

Livengood, Joanna

Lockwood, Andrea

Rasar, Kimberly

Issued in Washington, DC, on November 3, 2014.
Tonya M. Mackey,
Director, Office of Executive Resources.

[FR Doc. 2014-26502 Filed 11-6-14; 8:45 am]

BILLING CODE 6450-01-P